DEPARTMENT OF ENERGY

Federal Energy Regulatory Commission

[Docket Nos. CP03-302-000CP03-303-000, CP03-304-000PF03-1-000 and CP03-301-000]

Cheyenne Plains Gas Pipeline Company, Colorado Interstate Gas Company; Notice of Status Change of Environmental Review and Expiration of Scoping Period for the Proposed Cheyenne Plains Pipeline Project

June 10, 2003.

The staff of the Federal Energy Regulatory Commission (FERC or Commission) will prepare an environmental impact statement (EIS) that will discuss the environmental impacts of the construction and operation of the facilities proposed in the Cheyenne Plains Gas Pipeline Company's (CPG) project in various counties of Colorado and Kansas.¹ The purpose of this Notice is to give interested stakeholders a final opportunity to submit comments on the Cheyenne Plains Pipeline Project as we ² conclude the scoping period for this project and begin writing the draft Environmental Impact Statement (EIS).

¹ On May 20, 2003, in Docket No. CP03-302-000, CPG's application was filed with the Commission under Section 7 of the Natural Gas Act and part 157 of the Commission's regulations.

² “We,” “us,” and “our” refer to the environmental staff of the Office of Energy Projects.

On March 14, 2003, the Commission issued a Notice of Pre-Filing Environmental Review and Scoping for the Cheyenne Plains Pipeline Project under Docket No. PF03-1-000.³ That notice announced that the FERC staff was initiating its National Environmental Policy Act (NEPA) review process on CPG's project prior to receipt of a formal application. The purpose of the NEPA Pre-filing Process is to involve landowners, government entities, and other interested parties early in the project planning and to address their issues before an application is filed with the FERC.

³ The Notice of Pre-Filing Environmental Review and Scoping for this project can be viewed on the Commission's Internet Web site at the “FERRIS” link or from the Commission's Public Reference and Files Maintenance Branch, 888 First Street, NE., Washington, DC 20426, or call (202) 502-8371. For instructions on connecting to FERRIS refer to page 7 of this notice.

The EIS will discuss the environmental impacts of CPG's proposal, which involves the construction and operation of about 387 miles of natural gas pipeline and eight meter stations in Colorado and Kansas. Approximately 13 miles of the pipeline would be located on the Pawnee National Grassland in Weld County, Colorado. Colorado Interstate Gas Company (CIG) has filed a companion application that would add one new “jumper” compressor unit (at 2,443 horsepower) at its existing Cheyenne Compressor Station, which CIG states is necessary to deliver gas on the new Cheyenne Plains system.

The FERC will use the EIS in its decision-making process to determine whether the project is in the public convenience and necessity. The U.S. Department of Agriculture (USDA) Forest Service, Pawnee National Grassland will use the EIS in its decision-making process to determine whether or not to issue a Right-of-Way for occupancy of National Grassland System lands affected by the pipeline project. A general project location map is shown in appendix 1.⁴ ⁵

⁴ The appendices referenced in this notice are not being printed in the Federal Register. Copies are available on the Commission's Internet Web site at the “FERRIS” link or from the Commission's Public Reference and Files Maintenance Branch (see previous footnote). Copies of the appendices were sent to all those receiving this notice in the mail.

⁵ Requests for detailed maps of the facilities closest to your mailing area/property should be made to the project sponsor. Call or e-mail: Mr. David Anderson, Manager—Land Department, El Paso Corporation, (877) 598-5263, david.r.anderson@elpaso.com. Be as specific as you can about the location(s) of your area(s) of interest.

Similar to the March 14, 2003 notice, this Notice is being mailed to: Landowners whose properties are currently within a 200-foot-wide corridor centered on the proposed route; Federal, state, and local government agencies; elected officials; environmental and public interest groups; Native American tribes; and local libraries and newspapers. We encourage government representatives to notify their constituents of this planned action and encourage them to comment on their areas of concern.

If you are an affected landowner, you should have already been contacted by a pipeline company representative about the acquisition of an easement to construct, operate, and maintain the proposed facilities. The pipeline company will seek to negotiate a mutually acceptable easement agreement. However, if the project is certificated by the Commission, that approval conveys with it the right of eminent domain. At that time, if easement negotiations have failed to produce an agreement, the pipeline company could initiate condemnation proceedings in accordance with applicable state laws in Colorado and Kansas.

A fact sheet prepared by the FERC entitled “An Interstate Natural Gas Facility On My Land? What Do I Need To Know?” was attached to the project notice CPG provided to affected landowners. This fact sheet addresses a number of typically asked questions, including the use of eminent domain and how to participate in the Commission's proceedings. It is also available for viewing on the FERC Internet Web site (http://www.ferc.gov).

The EIS Process

NEPA requires the Commission to take into account the environmental impacts that could result from an action whenever it considers the issuance of a Certificate of Public Convenience and Necessity. NEPA also requires us to address issues and concerns the public may have about a proposed action. This process is referred to as “scoping.” The main goal of the scoping process is to focus the analysis in the EIS on the important environmental issues.

For the Cheyenne Plains Pipeline Project, the scoping process began in February 2003 when the El Paso Corporation Western Pipelines Group/CPG ⁶ held open houses at six locations along the proposed pipeline route to provide an opportunity for the public to learn about the proposed facilities and ask questions and express concerns about the project. During the same time frame, the FERC staff held agency scoping meetings in the project area. The U.S. Department of Agriculture, Forest Service, Pawnee National Grassland; National Park Service, Long Distance Trails Office; U.S. Fish and Wildlife Service; U.S. Army Corps of Engineers; Colorado and Kansas State Historic Preservation Offices; Colorado Division of Wildlife; and Kansas Department of Wildlife and Parks participated in these agency scoping meetings. The FERC staff attended the open houses and agency scoping meetings to hear verbal comments and concerns and subsequently issued the March 14, 2003 notice requesting written comments and concerns about the project.

⁶ The original sponsor of the Cheyenne Plains Pipeline Project was El Paso Corporation Western Pipelines Group (El Paso). El Paso's subsidiary, CPG, has taken over the role as project sponsor.

By this notice, we are requesting additional comments from you. Specifically, we are seeking new issues that were not identified during the pre-filing period. To ensure your comments are considered, please carefully follow the instructions in the public participation section beginning on page 5. We are also asking governmental agencies, including those which are participating agencies in the Commission's NEPA Pre-filing Process, to express their interest in becoming cooperating agencies for the preparation of the EIS. If you are an agency with jurisdiction and/or special expertise with respect to environmental issues in the project area and would like to request cooperating agency status, please file a written request by following the instructions for filing comments described in the public participation section. Cooperating agencies will be given special consideration for reviewing preliminary documents and requesting information from the project sponsors and their contractors. To date, only the USDA Forest Service, Pawnee National Grassland has agreed to be a cooperating agency in the preparation of the EIS.

Our independent analysis of the project-related impacts will be included in a draft EIS. The draft EIS will be mailed to Federal, state, and local government agencies; elected officials; environmental and public interest groups; Native American tribes; affected landowners; local libraries and newspapers; other interested parties; and the FERC's official service list for this proceeding. A 45-day comment period will be allotted for review of the EIS. We will consider all comments on the draft EIS and revise the document, as necessary, before issuing a final EIS. In addition, we will consider all comments on the final EIS before we make our recommendations to the Commission.

Currently Identified Environmental Issues

In the March 14, 2003 notice, we listed several issues that we think deserve attention based on a preliminary review of the proposed facilities and the environmental information. Other issues that were raised by agencies and the public during the NEPA pre-filing process include construction or operation impacts on:

• Actively cultivated cropland and actively used grazing land;

• Crop irrigation systems;

• Federally listed endangered or threatened species;

• The Pawnee National Grassland;

• The Santa Fe Trail (listed on the National Register of Historic Places);

• Unmarked graves;

• Drought-plagued vegetation that is susceptible to wildfires; and

• Areas proposed for future use or development.

Copies of comment letters already filed with the Commission can be examined by following the instructions for using our FERRIS link at the end of this notice.

Public Participation

As described in the March 14, 2003 notice, you can make a difference by providing us with your specific comments or concerns about the project. If you provided comments to us during the pre-filing period, you do not need to resubmit them. For those who will submit comments for the first time, you should focus the comments on the potential environmental effects of the proposal, alternatives to the proposal (including alternative locations and routes), and measures to avoid or lessen environmental impact. The more specific your comments, the more useful they will be.

Please carefully follow these instructions to ensure that your comments are received in time and properly recorded:

• Send an original and two copies of your letter to: Magalie R. Salas, Secretary, Federal Energy Regulatory Commission, 888 First St., NE., Room 1A, Washington, DC 20426;

• Reference Docket Nos. CP03-302-000 and PF03-1-000 on the original and both copies;

• Label one copy of your comments for the attention of DG2E, Gas Branch 1, (PJ-11.1, Room 62-49); and

• Mail your comments so that they will be received in Washington, DC on or before July 10, 2003. This is also the deadline for receipt of comments from the March 14, 2003 notice.

Please note that we are continuing to experience delays in mail deliveries from the U.S. Postal Service. Therefore, the Commission strongly encourages electronic filing of any comments or interventions or protests to this proceeding. See 18 CFR 385.2001(a)(1)(iii) and the instructions on the Commission's Internet Web site at http://www.ferc.gov under the “e-Filing” link and the link to the User's Guide. Prepare your submission in the same manner as you would if filing on paper and save it to a file on your hard drive. Before you can file comments you will need to create an account by clicking on “Login to File” and then “New User Account.” You will be asked to select the type of filing you are making. This filing is considered a “Comment on Filing.”

If you do not want to send comments at this time but still want to remain on our mailing list, please return the Mailing List Retention Form included in appendix 3. Anyone who returned a similar form in response to the March 14, 2003 notice, does not need to return the form again. If you did not return the form in response to either this notice or the March 14, 2003 notice, you will be taken off the mailing list.

The transcripts from CPG's open house meetings are available for public review in the PF-docket. Because the Commission received only a few written comments on the project in response to the March 14 notice, the Commission staff will not hold additional public scoping meetings at this time. However, we will conduct public meetings in the project area to receive comments on the draft EIS after it is issued.

Becoming an Intervenor

Also discussed in the March 14, 2003 notice is the Commission's intervention process. As an “intervenor” you can play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214; see appendix 2).⁷ Only intervenors have the right to seek rehearing of the Commission's decision.

⁷ Interventions may also be filed electronically via the Internet in lieu of paper. See the previous discussion on filing comments electronically.

Affected landowners and parties with environmental concerns may be granted intervenor status upon showing good cause by stating that they have a clear and direct interest in this proceeding that would not be adequately represented by any other parties. You do not need intervenor status to have your environmental comments considered.

Availability of Additional Information

Additional information about the project is available from the Commission's Office of External Affairs, at 1-866-208 FERC (3372) or on the FERC Internet Web site (http://www.ferc.gov). Using the “FERRIS” link, select “General Search” from the FERRIS menu, enter the selected date range and “Docket Number” (i.e.,. PF03-1-000 and CP03-302-000), and follow the instructions. Searches may also be done using the phrase “Cheyenne Plains” in the “Text Search” field. For assistance with access to FERRIS, the helpline can be reached at 1-866-208-3676, TTY (202) 502-8659, or at FERCOnlineSupport@ferc.gov. The FERRIS link on the FERC Internet Web site also provides access to the texts of formal documents issued by the Commission, such as orders, notices, and rule makings.

In addition, the Commission now offers a free service called eSubscription that allows you to keep track of all formal issuances and submittals in specific dockets. This can reduce the amount of time you spend researching proceedings by automatically providing you with notification of these filings, document summaries, and direct links to the documents. To register for this service, go to http://www.ferc.gov/esubscribenow.htm.

Magalie R. Salas,
Secretary.

[FR Doc. 03-15170 Filed 6-16-03; 8:45 am]

BILLING CODE 6717-01-P